SMALL BUSINESS ADMINISTRATION

[Disaster Declaration #12170 and #12171]

Kentucky Disaster Number KY-00033

AGENCY: U.S. Small Business Administration.

ACTION: Amendment 1.

SUMMARY: This is an amendment of the Presidential declaration of a major disaster for Public Assistance Only for the Commonwealth of Kentucky (FEMA-1912-DR), dated 05/11/2010.

Incident: Severe Storms, Flooding, Mudslides, and Tornadoes.

Incident Period: 05/01/2010 and continuing.

DATES: Effective Date: 05/17/2010.

Physical Loan Application Deadline Date: 07/12/2010.

Economic Injury (EIDL) Loan Application Deadline Date: 02/11/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Kentucky, dated 05/11/2010, is hereby amended to include the following areas as adversely affected by the disaster.

Primary Counties: Adair, Barren, Bath, Boyle, Carter, Casey, Cumberland, Edmonson, Garrard, Grayson, Jessamine, Lincoln, Madison, Marion, Menifee, Nelson, Rowan, Simpson, Warren, Washington, Woodford.

All other information in the original declaration remains unchanged.

(Catalog of Federal Domestic Assistance Numbers 59002 and 59008)

Joseph P. Loddo,
Acting Associate Administrator for Disaster Assistance.

[FR Doc. 2010-12464 Filed 5-24-10; 8:45 am]

BILLING CODE 8025-01-P